DEPARTMENT OF TRANSPORTATION

Federal Aviation Administration

14 CFR Part 71

Docket No. FAA-2024-1347; Airspace Docket No. 23-AWP-47

RIN 2120-AA66

Amendment of United States Area Navigation Routes Q-1 and Q-902, Very High Frequency Omnidirectional Range Federal Airway V-495, and Jet Route J-502. Also, the Revocation of Jet Route J-589 and the Establishment of United States Area Navigation Route T-487 and Canadian Area Navigation Route T-895 in Northwestern United States.

AGENCY: Federal Aviation Administration (FAA), DOT.

ACTION: Final rule; correction.

SUMMARY: This action corrects a typographical error in the final rule published in the Federal Register on October 24, 2024, amending United States Area Navigation (RNAV) Route Q-1, Canadian RNAV Route Q-902, Very High Frequency Omnidirectional Range (VOR) Federal Airway V-495, and Jet Route J-502; revoking Jet Route J-589; and establishing United States RNAV Route T-487 in Northwestern United States. This action corrects a typographical error in the regulatory text for Q-902 and T-487.

DATES: Effective date: 0901 UTC December 26, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Office of Policy, Federal Aviation Administration, 600 Independence Avenue SW, Washington DC 20597; telephone: (202) 267-8783.

FOR FURTHER INFORMATION CONTACT: Steven Roff, Rules and Regulations Group, Office of Policy, Federal Aviation Administration, 600 Independence Avenue SW, Washington, DC 20597; telephone (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it corrects an error of incorrect coordinates in a previously published regulatory text.

History

The FAA published a final rule for Docket No. FAA-2024-1347 in the Federal Register (89 FR 84812; October 24, 2024) that amended Q-1, Q-902, V-495, and J-502. The action also revoked J-589 and established T-487 and T-895. Subsequent to publication, the FAA identified the coordinates listed in the regulatory text for the route point DISCO are incorrect. This action corrects that error.

Correction to Final Rule

Accordingly, pursuant to the authority delegated to me, Amendment of United States Area Navigation Routes Q-1 and Q-902, Very High Frequency Omnidirectional Range Federal Airway V-495, and Jet Route J-502. Also, the revocation of Jet Route J-589 and the establishment of United States Area Navigation Route T-487 and Canadian Area Navigation Route T-895 in Northwestern United States, published in the Federal Register on October 24, 2024 (89 FR 84812), is corrected as follows:

FR Doc. 2024-24590, on page 84814, the coordinates listed for the route point DISCO in the regulatory text for Q-902 and T-487 are revised to read (lat. 48°22′35.81″ N, long. 123°09′30.60″ W)

Issued in Washington, DC, on December 9, 2024.
Richard Lee Parks,
Manager(A), Rules and Regulations Group.

[FR Doc. 2024-29299 Filed 12-12-24; 8:45 am]

BILLING CODE 4910-13-P